DEPARTMENT OF DEFENSE

Department of the Army

Corps of Engineers

Intent to Prepare a Draft Environmental Impact Statement/Subsequent Environmental Impact Report for a Permit Application for the Proposed West Basin Marine Terminal Improvement Projects in the Port of Los Angeles, Los Angeles County, CA

AGENCY: Department of the Army, U.S. Army Corps of Engineers, DOD.

ACTION: Notice of intent.

SUMMARY: The U.S. Army Corps of Engineers (Corps) Los Angeles District is considering future applications for Section 404 and Section 10 permits to conduct dredge and fill activities associated with a continuing program of waterside, marine terminal, and transportation improvement projects in the West Basin area of the Port of Los Angeles. Some of the project elements are completed and others are previously approved actions by the Port of Los Angeles (Port) and the Corps, including the Channel Deepening Project (Corps/Port 2000) that will dredge all navigational channels in the West Basin to −53 feet and construct 43 acres of new landfill in the Southwest Slip. Major project elements to be covered in the Draft Environmental Impact Statement/Subsequent Environmental Impact Statement/Subsequent Environmental Impact Report (EIS/SEIR) include: Dredging, wharf renovation and new wharf construction, to match the approved −53 foot channel depths construction of new landfill, and potential channel realignment. Landside developments will include expansion, redevelopment and construction of marine terminal facilities, and transportation infrastructure improvements including a grade separation a bridge structure, an intermodal rail facility and potential realignment of road and railways.

The primary Federal concern is the dredging and discharging of materials within waters of the United States and potential impacts on the human environment. Therefore, in accordance with the National Environmental Policy Act (NEPA), the Corps is requiring the preparation of an Environmental Impact Statement (EIS) prior to consideration of any permit action. The Corps may ultimately make a determination to permit or deny the above project or permit or deny modified versions of the above project.

Pursuant to the California Environmental Quality Act (CEQA), the Port will serve as Lead Agency for the preparation of a subsequent Environmental Impact Report (EIR) for its consideration of development approvals within its jurisdiction. The Corps and the Port have agreed to jointly prepare a Draft EIS/SEIR in order to optimize efficiency and avoid duplication. The Draft EIS/SEIR is intended to be sufficient in scope to address both the Federal and the state and local requirements and environmental issues concerning the proposed activities and permit approvals.

DATES: A public scoping meeting for the Draft EIS/SEIR will be held at the Port of Los Angeles on July 16, 2002, at 6:30 P.M. Written comments will be received until August 5, 2002.

ADDRESSES: Copies of comments and questions regarding scoping of the Draft EIS/SEIR may be addressed to: U.S. Army Corps of Engineers, Los Angeles District, Regulatory Branch. ATTN: File Number 2002-01070-AOA, P.O. Box 532711, Los Angeles, CA 90053-2325. Copies should also be sent to Dr. Ralph Apply, Director of Environmental Management, Port of Los Angels, 425 S. Palos Verdes St., San Pedro, CA 90731.

FOR FURTHER INFORMATION CONTACT: Phone messages or questions can be directed to Dr. Aaron O. Allen: (805) 585-2148.

SUPPLEMENTARY INFORMATION:

1. Project Site and Background Information

The proposed project is located in the northwestern portion of the Port of Los Angeles, adjacent to the Wilmington and San Pedro Districts of the City of Los Angeles, CA. The proposed dredge activities would take place at various berths throughout the West Basin portion of the Port of Los Angeles, including the Berth 100-102 area, the Berth 118-131 area, and the Berth 136-147 area. Dredging would also be required if the navigation channel at Berths 121-127 was to be widened. Major areas of fill include the Southwest Slip and possibly the slip at Berths 132-134. The proposed improvement projects represent a continuation of a long-term, ongoing process of optimizing cargo handling efficiencies and thereby reducing environmental impacts of increased container terminal operations in the West Basin area. The proposed improvement projects involve dredge and fill operations, new wharf construction, renovation of existing wharfs coupled with terminal expansion on adjacent areas of existing land, and improvement of transportation infrastructure.

Optimization of terminals and infrastructure in the West Basin was initially evaluated in the West Basin Transportation Improvements Program Environmental Impact Report (WBTIP EIR, LAHD 1997a). The 1997 EIR and subsequent CEQA and NEPA assessments have been used to certify and approve many project elements in the West Basin. Since the certification of the 1997 Program EIR many project elements have been completed and others are planned.

Key objectives of the new West Basin EIS/SEIR identified in this notice of intent will be to: (1) Establish an updated baseline of current Port operations and environmental conditions with the West Basin and (2) assess potential environmental effects of implementing currently proposed projects within this part of the Port of Los Angeles. A key component of this new EIS/SEIR will be to update the cargo-handling capacity of the West Basin container terminals and update environmental impacts of ship, truck, and rail traffic associated with proposed project elements.

2. Proposed Action

Construction of the proposed project would require dredging approximately 1,000,000 cubic yards of material if all project elements are implemented. Placement of sediment within the West Basin to construct additional landfill in the Southwest slip would require approximately 5,000,000 cubic yard of material and result in the permanent loss of 32 acres of open-water habitat. The placement of material generated by the federal channel deepening project in the Southwest slip to meet this need has been reviewed in terms of dredge disposal options in the Port of Los Angeles Channel Deepening Project SEIS/SEIR (2000). The potential channel widening between Berths 121 to 126 would create an additional 6 acres of open-water habitat and the potential fill between Berths 131 to 136 would remove 13 acres of open-water habitat. Additional material would originate from sources outside of the West Basin such as the Pier 400 storage area. In addition to project elements that may arise from the public scoping process will also be evaluated in the West Basin Marine Terminal Improvement Projects EIS/SEIR, the proposed improvement projects include the following elements:

(a) Berth 100-102 area Phase II and III projects.

(1) Construction and operation of a second 1,300 foot long wharf.

(2) Construct and operate container terminal backlands, buildings, facilities and infrastructure on the 43 acres created under Channel Deepening Project.

(3) Construct a bridge to the Berth 118-131 area across the Southwest Slip.

(4) Potential realignment of the Front Street road and railways around Knoll Hill.

(5) Consolidation of adjacent parcels at Berth 99, from the Front Street realignment, and the former Todd Shipyard parking lot for container terminal operators.

(6) Creation of up to 32 acres of new landfill in the adjacent Southwest Slip for construction and operation of terminal backlands and infrastructure.

(b) Improvements to the Berth 118-131 area.

(1) Construction and upgrades of up to 2,800 feet of new and reconstructed wharves to match the planned −53 foot channel depths.

(2) Wharf improvements, including upgrade to 100-foot gauge crane rail.

(3) Construction of new facilities and buildings.

(4) Redevelopment of the 20-acre marine oil terminal at Berths 118-129 to container terminal operations.

(5) Potential widening of the navigation channel at between Berths 121 to 126.

(6) Potential landfill at the slip between Berths 131 to 136 of approximately 13 acres.

(c) Improvements to the Berth 136-151 area.

(1) Consolidation of the area into a single facility.

(2) Construct and upgrade up to 2,600 feet of wharves.

(3) Wharf improvement, including upgrade to 100-foot gauge crane rail.

(4) Construct and operate additional terminal gate facilities and buildings.

(5) Construction and operation of a grade separation at Neptune Avenue.

(6) Expansion of the terminal into the 20-acre area south of the realigned Harry Bridges Blvd.

(7) Construction and operation of additional 10-acre intermodal rail and infrastructure.

(8) Consolidation of the 17-acre marine oil terminal and infrastructure at Berths 148-151 into a five to six acre site and redevelopment of the area at Berth 149 to container terminal operations.

3. Issues

There are several potential environmental issues that will be addressed in the EIS/SEIR. Additional issues may be identified during the scoping process. Issues initially identified as potentially significant include:

(a) Land use and planning impacts, including creation of new landfill requiring amendment of the Port Master Plan and approval by the California Coastal Commission.

(b) Geological issues including dredging and stabilization of fill areas in an area of known seismic activity.

(c) Impacts to water quality.

(d) Potential impacts to marine biological resources and endangered species of birds.

(e) Impacts to air quality.

(f) Impacts to traffic, including marine navigation and ground transportation.

(g) Potential for noise impacts.

(h) Impacts to public utilities and services.

(i) Potential impacts to aesthetic resources including increased light and glare.

(j) Potential impacts on public health and safety.

(k) Potential impacts to recreation.

(l) Cumulative impacts.

4. Alternatives

Several alternatives are being considered for the proposed improvement projects. These alternatives will be further formulated and developed during the scoping process and an appropriate range of alternatives, including the no federal action alternative, will be considered in the EIS/SEIR.

5. Scoping Process

A public scoping meeting (see DATES) will be held to receive public comment and assess public concerns regarding the appropriate scope and preparation of the Draft EIS/SEIR. Participation in the public meeting by federal, state and local agencies and other interested organizations and persons is encouraged.

The Corps will also be consulting with the U.S. Fish and Wildlife Service under the Endangered Species Act and the Fish and Wildlife Coordination Act, and with the National Marine Fisheries Service under the Magnuson-Stevens Act. Additionally, the EIS/SEIR will assess the consistency of the proposed action with the Coastal Zone Management Act and assess potential water quality impacts pursuant to Section 401 of the Clean Water Act.

6. Availability of the Draft SEIR/EIS

The Draft SEIR/EIS is expected to be published and circulated in the fall of 2002 and a public hearing will be held after the publication of the Draft EIS/SEIR.

Luz D. Ortiz,
Army Federal Register Liaison Officer.

[FR Doc. 02-16886 Filed 7-3-02; 8:45 am]

BILLING CODE 3710-KF-M